DEPARTMENT OF AGRICULTURE

Food Safety and Inspection Service

[Docket No. 04-005N]

Codex Alimentarius Commission: 32nd Session of the Codex Committee on Food Labelling

AGENCY: Food Safety and Inspection Service, USDA.

ACTION: Notice of public meeting, request for comments.

SUMMARY: The Office of the Under Secretary for Food Safety, United States Department of Agriculture, and the Food And Drug Administration (FDA) of the Department of Health and Human Services, are sponsoring a public meeting on March 30, 2004 to provide information and receive public comments on agenda items that will be discussed at the 32nd Session of the Codex Committee on Food Labelling (CCFL) of the Codex Alimentarius Commission (Codex), which will be held in Montréal, Canada on May 10-14, 2004. The Under Secretary and FDA recognize the importance of providing interested parties the opportunity to obtain background information on the agenda items that will be debated at this forthcoming Session of the CCFL.

DATES: The public meeting is scheduled for Tuesday, March 30, 2004, from 1 p.m. to 4 p.m.

ADDRESSES: The public meeting will be held in Room 107-A of the Department of Agriculture, Jamie Whitten Building, 1400 Independence Avenue, SW., Washington, DC. To receive copies of the documents referenced in the notice contact the FSIS Docket Clerk, U.S. Department of Agriculture, Food Safety and Inspection Service, Room 102, Cotton Annex, 300 12th Street, SW., Washington, DC 20250-3700. The documents will also be accessible via the World Wide Web at the following address: http://www.codexalimentarius.net/current.asp. If you have comments, please send an original and two copies to the FSIS Docket Clerk and reference the Docket # 04-005N. All comments submitted will be available for public inspection in the Docket Clerk's Office between 8:30 a.m. and 4:30 p.m., Monday through Friday.

FOR FURTHER INFORMATION CONTACT: Ellen Matten, International Issues Analyst, U.S. Codex Office, Food Safety and Inspection Service, Room 4861, South Building, 1400 Independence Avenue, SW., Washington, DC 20250, phone: (202) 205-7760, fax: (202) 720-3157.

SUPPLEMENTARY INFORMATION:

Background

The Codex Alimentarius (Codex) was established in 1962 by two United Nations organizations, the Food and Agriculture Organization (FAO) and the World Health Organization (WHO). Codex is the major international organization for protecting the health and economic interests of consumers and encouraging fair international trade in food. Through adoption of food standards, codes of practice, and other guidelines developed by its committees, and by promoting their adoption and implementation by governments, Codex seeks to ensure that the world's food supply is sound, wholesome, free from adulteration, and correctly labeled. In the United States, USDA, FDA, and the Environmental Protection Agency manage and carry out U.S. Codex activities.

The Codex Committee on Food Labeling (CCFL) drafts provisions on labeling applicable to all foods; considers, amends if necessary, and endorses specific provisions on labeling of draft standards, codes of practice, and guidelines prepared by other Codex committees; studies specific labeling problems assigned to it by the Commission; and studies problems associated with the advertisement of food with particular reference to claims and misleading descriptions. The Committee is chaired by Canada.

Issues To Be Discussed at the Public Meeting

The provisional agenda items will be discussed during the public meeting:

1. Adoption of the agenda.

2. Matters referred by the Codex Alimentarius Commission and other Codex Committees.

3. Consideration of labelling provisions in Draft Codex Standards.

4. Draft guidelines for the use of health and nutrition claims.

5. Guidelines for the production, processing, labelling and marketing of organically produced foods: proposed draft revised sections: Annex 2—Permitted Substances.

6. Labelling of foods and food ingredients obtained through certain techniques of genetic modification /genetic engineering:

(a) Draft recommendations for the labelling of foods obtained through certain techniques of genetic modification/genetic engineering (draft amendment to the General Standard for the Labelling of Prepackaged Foods): definitions.

(b) Proposed draft recommendations for the labelling of foods obtained through certain techniques of genetic modification/genetic engineering (proposed draft guidelines for the Labelling of Foods and Food Ingredients Obtained through Certain Techniques of Genetic Modification/Engineering): labelling provisions.

7. Proposed draft amendment to the General Standard for the Labelling of Prepackaged Foods: quantitative declaration of ingredients.

8. Consideration of country of origin labelling.

9. Consideration of food labelling and traceability.

10. Discussion paper on misleading claims.

Each issue listed will be fully described in documents distributed, or to be distributed, by the Canadian Secretariat to the meeting. Members of the public may access or request copies of these documents (see ADDRESSES).

Public Meeting

At the March 30, 2004, public meeting, the agenda items will be described, discussed, and attendees will have the opportunity to pose questions and offer comments. Written comments may be offered at the meeting or sent to the FSIS Docket Room (see ADDRESSES). Written comments should state that they relate to activities of the 32nd Session of the CCFL, Docket # 04-005N.

Additional Public Notification

Public awareness of all segments of rulemaking and policy development is important. Consequently, in an effort to better ensure that minorities, women, and persons with disabilities are aware of this notice; FSIS will announce it and make copies of this Federal Register publication available through the FSIS Constituent Update, which is communicated via Listserv, a free e-mail subscription service. In addition, the update is available on-line through the FSIS Web page located at: http://www.fsis.usda.gov. The update is used to provide information regarding FSIS policies, procedures, regulations, Federal Register notices, FSIS public meetings, recalls, and other types of information that could affect or would be of interest to our constituents and stakeholders. The constituent Listserv consists of industry, trade, and farm groups, consumer interest groups, allied health professionals, scientific professionals, and other individuals that have requested to be included. Through the Listserv and Web page, FSIS is able to provide information to a much broader, more diverse audience.

For more information contact the Congressional and Public Affairs Office, at (202) 720-9113. To be added to the free e-mail subscription service (Listserv) go to the “Constituent Update” page on the FSIS Web site at http://www.fsis.usda.gov/oa/update/update.htm. Click on the “Subscribe to the Constituent Update Listserv” link, then fill out and submit the form.

Done in Washington, DC, on March 10, 2004.
F. Edward Scarbrough,
U.S. Manager for Codex Alimentarius.

[FR Doc. 04-5815 Filed 3-12-04; 8:45 am]

BILLING CODE 3410-DM-P